DEPARTMENT OF HOMELAND SECURITY

Transportation Security Administration

Notice of Intent To Request Approval From the Office of Management and Budget (OMB) of One Public Collection of Information; Port Security Training Exercise Program

AGENCY: Transportation Security Administration (TSA), DHS.

ACTION: Notice.

SUMMARY: TSA invites public comment on a new information collection requirement abstracted below that will be submitted to OMB for approval in compliance with the Paperwork Reduction Act.

DATES: Send your comments by July 25, 2005.

ADDRESSES: Comments may be mailed or delivered to Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION: In accordance with the Paperwork Reduction Act of 1995, (44 U.S.C. 3501 et seq.), an agency may not conduct or sponsor, and a person is not required to respond to a collection of information, unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Purpose of Data Collection

TSA is currently conducting a national effort to develop a Port Security Training Exercise Program (PortStep) that will increase the port industry's level of preparedness to prevent, respond to, and recover from a terrorist or security event. As part of this effort, TSA needs to collect data on various aspects of our nation's public and privately owned ports in order to group each port according to the level of potential vulnerability to terrorist threats. TSA has performed an exhaustive search for other potential sources of the data needed, including a search of reports and databases within the U.S. Army Corps of Engineers, U.S. Maritime Administration (MARAD), and U.S. Coast Guard (USCG). TSA was able to locate several limited sources of data; however, available data from these sources is five to ten years old, and did not include specific data activities and changes made as a result of the terrorist attacks of September 11, 2001.

Description of Data Collection

TSA will conduct the information collection via the Internet, using a Web-based survey. The information collection will target, nationwide, relevant port stakeholders, including Port Authorities, USCG Captains of the Port, USCG Area Maritime Security Committees, state and local transportation security managers, emergency managers and emergency responders, private port service providers, and industry and labor associations. TSA estimates the total number of respondents to be 360 and the estimated annual reporting burden to be 150 hours annually. TSA may need to re-administer this survey periodically after 2007 to refine and refresh data collections; however, this requirement is not certain.

Use of Results

Data will be compiled and assigned weights to produce a score that TSA will use to create a tiered list of prioritized ports that may selectively receive a PortStep training exercise. Data will be stored securely and will not be released publicly. The data will be used only for the purposes of creating the Tiered Approach Report.

TSA will use these results to determine which U.S. ports should receive a TSA-sponsored exercise, the type and sophistication of the exercise, and the level of TSA involvement.

Issued in Arlington, Virginia, on May 19, 2005.
Lisa S. Dean,
Privacy Officer.

[FR Doc. 05-10383 Filed 5-24-05; 8:45 am]

BILLING CODE 4910-62-P